COMMITTEE FOR THE IMPLEMENTATION OF TEXTILE AGREEMENTS

Limitations of Duty-and Quota-Free Imports of Apparel Articles Assembled in Beneficiary Sub-Saharan African Countries from Regional and Third-Country Fabric

November 25, 2002.

AGENCY: Committee for the Implementation of Textile Agreements (CITA).

ACTION: Publishing the Third 12-Month Cap on Duty-and Quota-Free Benefits.

EFFECTIVE DATE: October 1, 2002.

FOR FURTHER INFORMATION CONTACT: Anna Flaaten, International Trade Specialist, Office of Textiles and Apparel, U.S. Department of Commerce, (202) 482-3400.

SUPPLEMENTARY INFORMATION:

Authority: Title I, Section 112(b)(3) of the Trade and Development Act of 2000, Section 3108 of the Trade Act of 2002; Presidential Proclamation 7350 of October 4, 2000 (65 FR 59321); Presidential Proclamation 7626 of November 13, 2002, 67 FR 69459).

Title I of the Trade and Development Act of 2000 (TDA 2000) provides for duty-and quota-free treatment for certain textile and apparel articles imported from designated beneficiary sub-Saharan African countries. Section 112(b)(3) of TDA 2000 provides duty-and quota-free treatment for apparel articles wholly assembled in one or more beneficiary sub-Saharan African countries from fabric wholly formed in one or more beneficiary countries from yarn originating in the United States or one or more beneficiary countries. This preferential treatment is also available for apparel articles assembled in one or more lesser developed beneficiary sub-Saharan African countries, regardless of the country of origin of the fabric used to make such articles. This special rule for lesser developed countries applies through September 30, 2004. TDA 2000 imposed a quantitative limitation on imports eligible for preferential treatment under these two provisions.

The Trade Act of 2002 amended TDA 2000 to extend preferential treatment to apparel assembled in a beneficiary sub-Saharan African country from components knit-to-shape in a beneficiary country from U.S. or beneficiary country yarns and to apparel formed on seamless knitting machines in a beneficiary country from U.S. or beneficiary country yarns, subject to the quantitative limitation. The Trade Act of 2002 also increased the quantitative limitation but provided that this increase would not apply to apparel imported under the special rule for lesser developed countries. The Trade Act of 2002 provides that the quantitative limitation for the year beginning October 1, 2002 will be an amount not to exceed 4.2414 percent of the aggregate square meter equivalents of all apparel articles imported into the United States in the preceding 12-month period for which data are available. Of this overall amount, apparel imported under the special rule for lesser developed countries is limited to an amount not to exceed 2.0714 percent of apparel imported into the United States in the preceding 12-month period. For the purpose of this notice, the most recent 12-month period for which data are available is the 12-month period ending July 31, 2002.

Presidential Proclamation 7350 directed CITA to publish the aggregate quantity of imports allowed during each 12-month period in the Federal Register. Presidential Proclamation 7626, published on November 18, 2002, modified the aggregate quantity of imports allowed during each 12-month period.

For the one-year period, beginning on October 1, 2002, and extending through September 30, 2003, the aggregate quantity of imports eligible for preferential treatment under these provisions is 735,905,928 square meter equivalents. Of this amount, 359,399,147 square meter equivalents is available to apparel imported under the special rule for lesser developed countries. These quantities will be recalculated for each subsequent year. Apparel articles entered in excess of these quantities will be subject to otherwise applicable tariffs.

These quantities are calculated using the aggregate square meter equivalents of all apparel articles imported into the United States, derived from the set of Harmonized System lines listed in the Annex to the World Trade Organization Agreement on Textiles and Clothing (ATC), and the conversion factors for units of measure into square meter equivalents used by the United States in implementing the ATC.

James C. Leonard III,
Chairman, Committee for the Implementation of Textile Agreements.

[FR Doc.02-30412 Filed 11-26-02; 11:58 am]

BILLING CODE 3510-DR-S